DEPARTMENT OF TRANSPORTATION

Federal Aviation Administration

14 CFR Part 39

[Docket No. FAA-2020-0467; Product Identifier 2020-NM-056-AD; Amendment 39-21399; AD 2021-02-16]

RIN 2120-AA64

Airworthiness Directives; The Boeing Company Airplanes

AGENCY: Federal Aviation Administration (FAA), DOT.

ACTION: Final rule.

SUMMARY: The FAA is adopting a new airworthiness directive (AD) for all The Boeing Company Model 717-200 airplanes. This AD was prompted by a report that during takeoff, both the captain's and first officer's airspeed indications froze at 80 knots. This AD requires modifying the air data heat (ADH) system to display the proper airspeed indications, testing, and any applicable corrective actions. The FAA is issuing this AD to address the unsafe condition on these products.

DATES: This AD is effective March 30, 2021.

The Director of the Federal Register approved the incorporation by reference of a certain publication listed in this AD as of March 30, 2021.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available on the internet at https://www.regulations.gov by searching for and locating Docket No. FAA-2020-0467.

Examining the AD Docket

You may examine the AD docket on the internet at https://www.regulations.gov by searching for and locating Docket No. FAA-2020-0467; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Eric Igama, Aerospace Engineer, Systems and Equipment Section, FAA, Los Angeles ACO Branch, 3960 Paramount Boulevard, Lakewood, CA 90712-4137; phone: 562-627-5388; fax: 562-627-5210; email: roderick.igama@faa.gov.

SUPPLEMENTARY INFORMATION:

Discussion

The FAA issued a notice of proposed rulemaking (NPRM) to amend 14 CFR part 39 by adding an AD that would apply to all The Boeing Company Model 717-200 airplanes. The NPRM published in the Federal Register on June 19, 2020 (85 FR 37031). The NPRM was prompted by a report that during takeoff, both the captain's and first officer's airspeed indications froze at 80 knots. The NPRM proposed to require modifying the ADH system to display the proper airspeed indications, testing, and any applicable corrective actions.

The FAA is issuing this AD to address pitot tubes blocked by ice, which could affect the airspeed indication provided to the flightcrew through the ADH system and result in loss of aircraft controllability.

Comments

The FAA gave the public the opportunity to participate in developing this final rule. The following presents the comments received on the NPRM and the FAA's response to each comment.

Support for the NPRM

Three commenters, The Air Line Pilots Association, International (ALPA), Boeing, and Patrick Imperatrice, indicated support for the NPRM.

Request To Withdraw the NPRM

Hawaiian Airlines stated that existing crew procedures would produce the same result as the actions specified in the proposed AD and asserted that the proposed actions should remain optional. The commenter explained that with these existing crew procedures, operators should not be subjected to the requirements specified in the proposed AD. The commenter asserted that operators with strong crew cultures, processes, and procedures would mitigate the unsafe condition addressed by the NPRM without unnecessary and costly modification to the airplane. The commenter provided text from its existing crew procedures with recommended changes and asked that these procedures be considered as alternatives to the actions described in Boeing Alert Service Bulletin 717-30A0009, dated March 31, 2020 (which was identified as the appropriate source of service information for completing the actions specified in the NPRM). The FAA infers that the commenter is requesting that the NPRM be withdrawn.

The FAA disagrees with the commenter's request. The FAA has determined that the crew procedures identified by the commenter do not adequately address the unsafe condition associated with the ADH system. The FAA's determination was based on a report from Boeing that three operators reported that the ADH is not operating correctly. The FAA notes that this AD requires modifying the ADH system to display the proper airspeed indications and testing to address the unsafe condition, while the commenter's proposal involves only procedural changes in lieu of a modification. However, operators may apply for an alternative method of compliance (AMOC) under the provisions of paragraph (i) of this AD, provided they can show that their proposed crew/operational procedures would adequately address the unsafe condition. The FAA has determined that it is necessary to proceed with issuing the final rule as proposed and has not changed this AD regarding this issue.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

The FAA reviewed Boeing Alert Service Bulletin 717-30A0009, dated March 31, 2020. This service information describes procedures for modifying the ADH system by installing new wires between the station (STA) 110 relay panel and the left radio rack, and doing tests and applicable corrective actions until the tests are passed. This service information is reasonably available because the interested parties have access to it through their normal course of business or by the means identified in the ADDRESSES section.

Other Relevant Rulemaking

Group 1 airplanes identified in Boeing Alert Service Bulletin 717-30A0009, dated March 31, 2020, are identified as airplanes with a concurrent requirement: Boeing Alert Service Bulletin 717-30A0003. AD 2007-13-01, Amendment 39-15105 (72 FR 33852, June 20, 2007) (AD 2007-13-01) requires accomplishing the actions specified in Boeing Alert Service Bulletin 717-30A0003, Revision 2, dated November 28, 2006. AD 2007-13-01 requires operators to accomplish the actions (changing the wiring for the air data sensor heating system) within 24 months after July 25, 2007 (the effective date of AD 2007-13-01). The FAA issued that AD to address the display of suspect or erratic airspeed indications during heavy rain conditions, which could reduce the ability of the flightcrew to maintain the safe flight and landing of the airplane. Since AD 2007-13-01 already requires the concurrent service information, the FAA has not included Boeing Alert Service Bulletin 717-30A0003, Revision 2, dated November 28, 2006, as a concurrent requirement in this AD.

Costs of Compliance

The FAA estimates that this AD affects 113 airplanes of U.S. registry. The FAA estimates the following costs to comply with this AD:

Estimated Costs for Required Actions
Action | Labor cost | Parts cost | Cost per product | Cost on U.S. operators
Modification * | 12 work-hours × $85 per hour = $1,020 | $4,863 | $5,883 | $664,779
* The modification costs include the costs for testing. The FAA has received no definitive data on the costs of the corrective actions necessary to pass the testing.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-02-16 The Boeing Company: Amendment 39-21399; Docket No. FAA-2020-0467; Product Identifier 2020-NM-056-AD.

(a) Effective Date

This airworthiness directive (AD) is effective March 30, 2021.

(b) Affected ADs

None.

(c) Applicability

This AD applies to all The Boeing Company Model 717-200 airplanes, certificated in any category.

(d) Subject

Air Transport Association (ATA) of America Code 30, Ice and rain protection.

(e) Unsafe Condition

This AD was prompted by a report that during takeoff, both the captain's and first officer's airspeed indicators froze at 80 knots. The FAA is issuing this AD to address pitot tubes blocked by ice, which could affect the airspeed indication provided to the flightcrew through the air data heat (ADH) system and result in loss of aircraft controllability.

(f) Compliance

Comply with this AD within the compliance times specified, unless already done.

(g) Required Actions

Except as specified in paragraph (h) of this AD: At the applicable times specified in paragraph 1.E., “Compliance,” of Boeing Alert Service Bulletin 717-30A0009, dated March 31, 2020, do all applicable actions identified as “RC” (required for compliance) in, and in accordance with, the Accomplishment Instructions of Boeing Alert Service Bulletin 717-30A0009, dated March 31, 2020.

(h) Exception to Service Information Specifications

Where Boeing Alert Service Bulletin 717-30A0009, dated March 31, 2020, uses the phrase “the original issue date of this service bulletin,” this AD requires using “the effective date of this AD.”

(i) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) For service information that contains steps that are labeled as Required for Compliance (RC), the provisions of paragraphs (i)(4)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Eric Igama, Aerospace Engineer, Systems and Equipment Section, FAA, Los Angeles ACO Branch, 3960 Paramount Boulevard, Lakewood, CA 90712-4137; phone: 562-627-5388; fax: 562-627-5210; email: roderick.igama@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 717-30A0009, dated March 31, 2020.

(ii) [Reserved]

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on January 14, 2021.
Ross Landes,
Deputy Director for Regulatory Operations, Compliance & Airworthiness Division, Aircraft Certification Service.

[FR Doc. 2021-03591 Filed 2-22-21; 8:45 am]

BILLING CODE 4910-13-P